DEPARTMENT OF LABOR

Employment and Training Administration

[TA-W-41,590]

Oxford Industries, Oxford Womenswear, New York, NY; Notice of Termination of Investigation

Pursuant to Section 221 of the Trade Act of 1974, an investigation was initiated on May 28, 2002 in response to a worker petition which was filed on behalf of workers at Oxford Industries, Oxford Womenswear, New York, New York.

An active certification covering the petitioning group of workers is already in effect (TA-W-39,764A, as amended). Consequently, further investigation in this case would serve no purpose, and the investigation has been terminated.

Signed in Washington, D.C. this 15th day of July, 2002.
Linda G. Poole,
Certifying Officer, Division of Trade Adjustment Assistance.

[FR Doc. 02-18636 Filed 7-23-02; 8:45 am]

BILLING CODE 4510-30-P